DEPARTMENT OF JUSTICE

[CPCLO Order No. 04-2024]

Privacy Act of 1974; Systems of Records

AGENCY: Access to Justice, United States Department of Justice.

ACTION: Notice of a new system of records.

SUMMARY: Pursuant to the Privacy Act of 1974 and Office of Management and Budget (OMB) Circular No. A-108, notice is hereby given that the Office for Access to Justice (ATJ), a component within the United States Department of Justice (DOJ or Department), proposes to develop a new system of records to support the Civil Legal Empowerment, Access, and Reentry (CLEAR) Program. The system of records is the Civil Legal Empowerment, Access, and Reentry (CLEAR) Program Records System, JUSTICE/ATJ-001. The ATJ proposes to establish this system of records to maintain records of the information received, reviewed, or created for the CLEAR Program, administered by ATJ, in collaboration with the Federal Bureau of Prisons (FBOP), and third-party partners, such as legal and medical service providers or academic institutions, to provide civil legal services to individuals incarcerated or previously incarcerated at FBOP facilities.

DATES: In accordance with 5 U.S.C. 552a(e)(4) and (11), this notice is applicable upon publication, subject to a 30-day period in which to comment on the routine uses, described below. Please submit any comments by November 25, 2024.

ADDRESSES: The public, OMB, and Congress are invited to submit any comments by mail to the United States Department of Justice, Office of Privacy and Civil Liberties, ATTN: Privacy Analyst, Two Constitution Square, 145 N St. NE, Suite 8W-300, Washington, DC 20530; by facsimile at 202-307-0693; or by email at privacy.compliance@usdoj.gov. To ensure proper handling, please reference the above CPCLO Order No. on your correspondence.

FOR FURTHER INFORMATION CONTACT: Nina Wu, Senior Counsel, Office for Access to Justice, Department of Justice, 150 M Street NE, Washington, DC 20002, Nina.Wu@usdoj.gov, 202-510-6386.

SUPPLEMENTARY INFORMATION: The CLEAR Program, announced by the Acting Associate Attorney General in April 2024, is designed to help incarcerated individuals better understand their civil legal rights and feel empowered to meet their own civil legal needs. As part of the CLEAR Program, ATJ will collaborate with a private third party, such as an academic institution or legal services provider, to provide civil legal services to incarcerated individuals and formerly incarcerated individuals at selected FBOP facilities.

The CLEAR Program will include three segments: (1) developing and providing self-help materials to address civil legal needs of incarcerated individuals; (2) conducting a series of empowerment workshops for incarcerated individuals focused on family law, financial-related issues, and public benefits; and (3) creating Medical Legal Partnerships (MLPs) with third-party partners to assist with pre-release Supplemental Security Income (SSI) claims.

To properly execute the CLEAR Program, ATJ is issuing this System of Records Notice.

In accordance with 5 U.S.C. 552a(r), the Department has provided a report to OMB and Congress on this new system of records.

Dated: October 9, 2024.
Peter A. Winn,
Acting Chief Privacy and Civil Liberties Officer, United States Department of Justice.

JUSTICE/ATJ-001

SYSTEM NAME AND NUMBER:

Civil Legal Empowerment, Access, and Reentry (CLEAR) Program Records System, JUSTICE/ATJ-001.

SECURITY CLASSIFICATION:

Controlled Unclassified Information.

SYSTEM LOCATION:

Records may be maintained at any Department of Justice authorized location. A list of the Access to Justice (ATJ) system locations may be found at https://www.justice.gov/atj. Records within this system of records may be transferred to a Department-authorized cloud service provider, in which records would be limited to locations within the United States.

SYSTEM MANAGER(S):

Deputy Director, U.S. Department of Justice, Office for Access to Justice, 950 Pennsylvania Ave. NW, Room 3339, Washington, DC 20530.

AUTHORITY FOR MAINTENANCE OF THE SYSTEM:

This system is established and maintained under the authority of 28 CFR 0.33.

PURPOSE(S) OF THE SYSTEM:

The purpose of the system is to maintain records of the information received, reviewed, or created for the CLEAR Program; to make records available to DOJ and ATJ staff to support the program as needed, and to other Federal and third-party partners as necessary to perform program functions as needed. The CLEAR Program is administered by ATJ, in collaboration with the Federal Bureau of Prisons (FBOP) and third-party partners, such as a legal or medical service providers or academic institutions, to provide self-help materials, a series of empowerment workshops and a Medical Legal Partnership focused on Supplemental Security Income claims to assist individuals currently and previously incarcerated at FBOP facilities.

CATEGORIES OF INDIVIDUALS COVERED BY THE SYSTEM:

Individuals currently or previously in the custody of the Attorney General and/or the Director of the FBOP, including those individuals in custody for criminal and civil commitments; counsel, family, and friends of individuals in custody, for example, when they provide letters of support to an incarcerated individual participating in the CLEAR Program; students and staff of academic institutions participating in the CLEAR Program; staff or volunteers affiliated with legal or medical service providers and other third-party partners participating in the CLEAR Program; third parties which enter into contracts, memoranda of understanding, or other arrangements with ATJ to facilitate the execution of the CLEAR Program; and DOJ staff involved in the administration of the CLEAR Program.

CATEGORIES OF RECORDS IN THE SYSTEM:

This system consists of all records relating to the execution of the CLEAR Program, including healthcare-related (such as medical, dental, mental health, and substance abuse records), legal (such as criminal, civil, custodial, and probation records), financial, housing, and social security records pertaining to currently or previously incarcerated individuals participating in the Program; and records created and maintained for administrative or operational purposes for the CLEAR Program. This includes communications between, and records received from, generated by, or about DOJ staff (including ATJ and FBOP) and third-party partner staff participating in the CLEAR Program. The system will also contain records related to the performance of the Program and third-party partners and their students and staff.

RECORD SOURCE CATEGORIES:

The system contains records that originated from DOJ staff involved in the administration of the CLEAR Program; FBOP, students, and staff of the third-party partners supporting the CLEAR Program; health care providers and professionals; the Social Security Administration; the U.S. Probation Office; individuals currently or formerly in FBOP's custody, and counsel, family, and friends of those individuals.

ROUTINE USES OF RECORDS MAINTAINED IN THE SYSTEM, INCLUDING CATEGORIES OF USERS AND THE PURPOSES OF SUCH USES:

In addition to those disclosures generally permitted under 5 U.S.C. 552a(b), all or a portion of the records or information contained in this system of records may be disclosed as a routine use pursuant to 5 U.S.C. 552a(b)(3) under the circumstances or for the purposes described below, to the extent such disclosures are compatible with the purposes for which the information was collected:

(a) Where a record, either alone or in conjunction with other information, indicates a violation or potential violation of law—criminal, civil, or regulatory in nature—the relevant records may be referred to the appropriate Federal, state, local, territorial, tribal, or foreign law enforcement authority or other appropriate entity charged with the responsibility for investigating or prosecuting such violation or charged with enforcing or implementing such law.

(b) To any person or entity that ATJ has reason to believe possesses information regarding a matter within the authority of ATJ, to the extent deemed to be necessary by ATJ in order to elicit such information or cooperation from the recipient for use in the performance of an authorized activity.

(c) In an appropriate proceeding before a court, grand jury, or administrative or adjudicative body, when the Department of Justice determines that the records are arguably relevant to the proceeding in accordance with applicable laws, rules, and Department policies.

(d) To the news media and the public, including disclosures pursuant to 28 CFR 50.2, unless it is determined that release of the specific information in the context of a particular case would constitute an unwarranted invasion of personal privacy, with the concurrence of the Department's Chief Privacy and Civil Liberties Officer.

(e) To contractors, experts, consultants, students, and others performing or working on a contract, service, grant, cooperative agreement, memorandum of understanding or other assignment for the Federal Government, when necessary to accomplish an agency function related to this system of records.

(f) To designated officers and employees of state, local, territorial, or tribal law enforcement or detention agencies in connection with the hiring or continued employment of an employee or contractor, where the employee or contractor would occupy or occupies a position of public trust as a law enforcement officer or detention officer having direct contact with the public or with prisoners or detainees, to the extent that the information is relevant and necessary to the recipient agency's decision.

(g) To appropriate officials and employees of a Federal agency or entity that requires information relevant to a decision concerning the hiring, appointment, or retention of an employee; the assignment, detail, or deployment of an employee; the issuance, renewal, suspension, or revocation of a security clearance; the execution of a security or suitability investigation; the letting of a contract, or the issuance of a grant or benefit.

(h) To a former employee of the Department for purposes of: responding to an official inquiry by a Federal, state, or local government entity or professional licensing authority, in accordance with applicable Department regulations; or facilitating communications with a former employee that may be necessary for personnel-related or other official purposes where the Department requires information and/or consultation assistance from the former employee regarding a matter within that person's former area of responsibility.

(i) To Federal, state, local, territorial, tribal, foreign, or international licensing agencies or associations which require information concerning the suitability or eligibility of an individual for a license or permit.

(j) To a Member of Congress or staff acting upon the Member's behalf when the Member or staff requests the information on behalf of, and at the request of, the individual who is the subject of the record.

(k) To the National Archives and Records Administration (NARA) and General Services Administration in records management inspections conducted under the authority of 44 U.S.C. 2904 and 2906.

(l) To appropriate agencies, entities, and persons when: (1) the Department suspects or has confirmed that there has been a breach of the system of records; (2) the Department has determined that as a result of the suspected or confirmed breach there is a risk of harm to individuals, the Department (including its information systems, programs, and operations), the Federal Government, or national security; and (3) the disclosure made to such agencies, entities, and persons is reasonably necessary to assist in connection with the Department's efforts to respond to the suspected or confirmed breach or to prevent, minimize, or remedy such harm.

(m) To another Federal agency or entity, when the Department determines that information from this system of records is reasonably necessary to assist the recipient agency or entity in (1) responding to a suspected or confirmed breach, or (2) preventing, minimizing, or remedying the risk of harm to individuals, the recipient agency or entity (including its information systems, programs, and operations), the Federal Government, or national security, resulting from a suspected or confirmed breach.

(n) To any agency, organization, or individual for the purpose of performing authorized audit or oversight operations of ATJ and meeting related reporting requirements.

(o) To such recipients and under such circumstances and procedures as are mandated by Federal statute or treaty.

(p) To any person or entity to the extent necessary to prevent immediate loss of life or serious bodily injury; and

(q) To the Social Security Administration, to meet the requirements of Social Security disability applications.

POLICIES AND PRACTICES FOR STORAGE OF RECORDS:

Records in this system are stored on paper and/or in electronic form. Records are stored securely in accordance with applicable laws, regulations, and policies.

POLICIES AND PRACTICES FOR RETRIEVAL OF RECORDS:

Records are retrieved by identifying data of the persons covered by this system, including name, inmate register number, and Social Security Number.

POLICIES AND PRACTICES FOR RETENTION AND DISPOSAL OF RECORDS:

Records in this system are maintained and disposed of in accordance with all applicable statutory and regulatory requirements. Pending NARA approval of a proposed records schedule, SSI claim-related case records will be retained for a period of five years after a decision is made by the Social Security Administration on the SSI claim of the individual under FBOP custody. Documentary records are destroyed by shredding; computer records are destroyed by degaussing and/or shredding.

ADMINISTRATIVE, TECHNICAL, AND PHYSICAL SAFEGUARDS:

Information in this system in electronic or hard copy form is subject to administrative, technical, and physical safeguards in accordance with applicable laws, rules, and policies, including Federal information technology (IT) security requirements and DOJ's rules and policies governing automated information systems security, including physical security and access controls. These safeguards include the maintenance of records and technical equipment in restricted areas, the use of encryption to protect data, and the required use of strong user authentication to access the system. Only those authorized staff who require access to perform their official duties may access the system equipment and the information in the system. The data is also segregated and encrypted, and staff's ability to update inmate data is restricted absent authorization. Internet connections are protected by multiple firewalls. Users of individual DOJ computers can only gain access to data through a multi-factor authentication process; direct access to certain information is restricted depending on a user's role and responsibility within the organization and system. Security staff conduct periodic vulnerability scans using DOJ-approved software to ensure security compliance, and security logs are enabled for computers to assist in troubleshooting and forensics analysis during incident investigations.

RECORD ACCESS PROCEDURES:

All requests for access to records must be in writing and can be emailed to ATJFOIA@usdoj.gov or mailed to FOIA Contact, Office for Access to Justice, Department of Justice, 950 Pennsylvania Ave. NW, Rm. 3341, Washington, DC 20530-0001. Any envelope and letter should be clearly marked “Privacy Act Access Request.” The request must describe the records sought in sufficient detail to enable Department staff to locate them with a reasonable amount of effort. The request must include a general description of the records sought and must include the requester's full name, current address, and date and place of birth. The request must be signed and either notarized or submitted under penalty of perjury. A determination whether a record may be accessed will be made at the time a request is received.

Although no specific form is required, you may obtain forms for this purpose from the FOIA/Privacy Act Mail Referral Unit, United States Department of Justice, 950 Pennsylvania Avenue NW, Washington, DC 20530, or on the Department of Justice website at https://www.justice.gov/oip/oip-request.html.

More information regarding the Department's procedures for accessing records in accordance with the Privacy Act can be found at 28 CFR part 16, subpart D, “Access to and Amendment of Individual Records Pursuant to the Privacy Act of 1974, and Other Privacy Protections.”

CONTESTING RECORD PROCEDURES:

Individuals seeking to contest or amend records maintained in this system of records must direct their requests to the address indicated in the “RECORD ACCESS PROCEDURES” paragraph, above. All requests to contest or amend records must be in writing and the envelope and letter should be clearly marked “Privacy Act Amendment Request.” All requests must state clearly and concisely what record is being contested, the reasons for contesting it, and the proposed amendment to the record.

More information regarding the Department's procedures for amending or contesting records in accordance with the Privacy Act can be found at 28 CFR 16.46, “Privacy Act requests for amendment or correction.”

NOTIFICATION PROCEDURES:

Individuals may be notified if a record in this system of records pertains to them when the individuals request information utilizing the same procedures as those identified in the “RECORD ACCESS PROCEDURES” paragraph, above.

EXEMPTIONS PROMULGATED FOR THE SYSTEM:

None.

HISTORY:

None.

[FR Doc. 2024-23951 Filed 10-24-24; 8:45 am]

BILLING CODE 4410-PN-P